DEPARTMENT OF TRANSPORTATION

Federal Aviation Administration

Notice of Submission Deadline for International Slots For the Winter 2002/2003 Scheduling Season

AGENCY: Department of Transportation, FAA.

ACTION: Notice of submission deadline.

SUMMARY: On October 1, 1999, the FAA amended the regulations governing takeoff and landing slots and slot allocation procedures at certain High Density Traffic Airports as a result of the “Open Transborder” Agreement between the Government of the United States and the Government of Canada. One element of this final rule established that the deadline for submission of requests for international slots will be published in a Federal Register notice for each scheduling season. The purpose of the amendment is for the FAA deadline for international slot requests to coincide with the International Air Transport Association deadline for submission of international requests. For the Winter 2002/2003 Scheduling Season, the IATA submission deadline is May 12, 2002, which falls on a Sunday. Therefore, the FAA announces in this notice that the deadline for submitting requests for international slots for allocation under 14 CFR 93.217 is May 13, 2002.

DATES: Requests for international slots must be submitted no later than May 13, 2002.

ADDRESSES: Requests may be submitted by mail to Slot Administration Office, AGC-220, Office of the Chief Counsel, 800 Independence Ave., SW., Washington, DC 20591; facsimile: 202-267-7668; ARINC:DCAYAXD; e-mail address: 7-AWA-slotadmin@faa.gov.

FOR FURTHER INFORMATION CONTACT: Lorelei Peter, Operations and Air Traffic Law Branch, Regulations Division, Office of the Chief Counsel, Federal Aviation Administration, 800 Independence Avenue, SW., Washington, DC 20591; telephone number: 202-267-3073.

Issued in Washington, DC on February 15, 2002,
David G. Leitch,
Chief Counsel.

[FR Doc. 02-4203 Filed 2-20-02; 8:45 am]

BILLING CODE 4910-13-M